DEPARTMENT OF THE TREASURY

Internal Revenue Service

Open Meeting of the Taxpayer Advocacy Panel Taxpayer Assistance Center Project Committee

AGENCY: Internal Revenue Service (IRS), Treasury.

ACTION: Notice of meeting.

SUMMARY: An open meeting of the Taxpayer Advocacy Panel Taxpayer Assistance Center Project Committee will be conducted. The Taxpayer Advocacy Panel is soliciting public comments, ideas, and suggestions on improving customer service at the Internal Revenue Service.

DATES: The meeting will be held Thursday, May 19, 2011; Friday, May 20, 2011; and Saturday, May 21, 2011.

FOR FURTHER INFORMATION CONTACT: Ellen Smiley at 1-888-912-1227 or 414-231-2360.

SUPPLEMENTARY INFORMATION: Notice is hereby given pursuant to Section 10(a)(2) of the Federal Advisory Committee Act, 5 U.S.C. App. (1988) that an open meeting of the Taxpayer Advocacy Panel Taxpayer Assistance Center Project Committee will be held Thursday, May 19, 2011 from 1 p.m. to 5 p.m.; Friday, May 20, 2011 from 8 a.m. to 5 p.m.; and Saturday, May 21, 2011 from 8 a.m. to 12 p.m. Pacific Time in San Diego, CA. The public is invited to make oral comments or submit written statements for consideration. Notification of intent to participate must be made with Ms. Ellen Smiley. For more information and site location, please contact Ms. Smiley at 1-888-912-1227 or 414-231-2360, or write TAP Office Stop 1006MIL, 211 West Wisconsin Avenue, Milwaukee, WI 53203-2221, or post comments to the Web site: http://www.improveirs.org.

The agenda will include various IRS issues.

Dated: March 24, 2011.
Shawn Collins,
Director, Taxpayer Advocacy Panel.

[FR Doc. 2011-7511 Filed 3-30-11; 8:45 am]

BILLING CODE 4830-01-P